DEPARTMENT OF ENERGY

Federal Energy Regulatory Commission

[Docket No. RP01-138-000]

Columbia Gulf Transmission Company; Notice of Proposed Changes in FERC Gas Tariff

December 5, 2000.

Take notice that on December 1, 2000, Columbia Gulf Transmission Company (Columbia Gulf) tendered for filings as part of its FERC Gas Tariff, Second Revised Volume No. 1, the following revised tariff sheets to become effective January 1, 2001:

Twenty-fourth Revised Sheet No. 18

Fourteenth Revised Sheet No. 18A

Twenty-fifth Revised Sheet No. 19

Columbia Gulf states that this filing is being submitted in accordance with the Federal Energy Regulatory Commission's (Commission) order issued on September 29, 1999 in Gas Research Institute's (GRI) Docket No. RP99-323-000 (Order Approving Settlement) (88 FERC ¶ 61,293), and in accordance with Section 33 of the General Terms and Conditions of its FERC Gas Tariff, Columbia is submitting revised tariff sheets to reflect the 2000 GRI funding mechanism.

Columbia Gulf states that copies of its filing have been served upon its firm and interruptible customers and affected state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-31416 Filed 12-8-00; 8:45 am]

BILLING CODE 6717-01-M